DEPARTMENT OF EDUCATION

[CFDA Number: 84.184Y]

Funding Priorities, Requirements, and Definitions

AGENCY: Office of Safe and Drug-Free Schools, Department of Education.

ACTION: Notice of proposed priorities, requirements, and definitions.

SUMMARY: The Assistant Deputy Secretary for Safe and Drug-Free Schools proposes priorities, requirements, and definitions under the Safe and Supportive Schools program. The Assistant Deputy Secretary may use one or more of these priorities, requirements, and definitions for competitions in fiscal year (FY) 2011 and later years. The Assistant Deputy Secretary intends to use the priorities, requirements, and definitions to awards grants to State educational agencies (SEAs) to support statewide measurement of, and targeted programmatic interventions to improve, conditions for learning in order to help schools improve student safety and health.

DATES: We must receive your comments on or before May 11, 2011.

ADDRESSES: Address all comments about this notice to Bryan Williams, U.S. Department of Education, 400 Maryland Avenue, SW., Potomac Center Plaza, Room 10120, Washington, DC 20202-6450.

If you prefer to send your comments by e-mail, use the following address: bryan.williams@ed.gov. Please include the term “Safe and Supportive Schools—Comments on FY 2011 Proposed Priorities” in the subject line of your message.

FOR FURTHER INFORMATION CONTACT: Bryan Williams (202) 245-7883 or by e-mail: bryan.williams@ed.gov.

If you use a telecommunications device for the deaf (TDD), call the Federal Relay Service, toll free, at 1-800-877-8339.

SUPPLEMENTARY INFORMATION: Invitation to Comment: We invite you to submit comments regarding this notice. To ensure that your comments have maximum effect in developing the notice of final priorities, requirements, and definitions, we urge you to identify clearly the specific proposed priority, requirement, or definition that each comment addresses.

We invite you to assist us in complying with the specific requirements of Executive Order 12866 and its overall requirement of reducing regulatory burden that might result from these proposed priorities, requirements, and definitions. Please let us know of any further opportunities we should take to reduce potential costs or increase potential benefits while preserving the effective and efficient administration of the program.

During and after the comment period, you may inspect all public comments about this notice in room 10120, 550 12th Street, SW., Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: Through the Safe and Supportive Schools program, the Department awards grants to SEAs to support statewide measurement of, and targeted programmatic interventions to improve, conditions for learning in order to help schools improve student safety and health. Program Authority: 20 U.S.C. 7131. Applicable Regulations: (a) The Education Department General Administrative Regulations (EDGAR) in 34 CFR parts 75, 77, 79, 80, 81, 82, 84, 85, 97, 98, and 99. (b) The regulations in 34 CFR part 299.

Proposed Priorities

This notice contains three proposed priorities. Background: Our Nation's schools should be safe and secure settings where children can learn and grow to their full potential. Unfortunately, data suggests that significant levels of violence, bullying, and other problems in schools create conditions that negatively affect learning. The most recent data on school crime and safety indicate that while the incidence of violent crimes in schools decreased from 1992 to 2008, students are now more likely to experience non-fatal crimes (including theft, simple assault, aggravated assault, rape, and sexual assault) in school than outside of school.¹ During the 2007-2008 school year, 85 percent of public schools in the United States reported that at least one crime occurred at their school.² In addition, based on more recently reported data, 25 percent of public schools reported that bullying occurred among students on a daily or weekly basis, and 34 percent of teachers agreed or strongly agreed that student misbehavior interfered with their teaching.³

¹ U.S. Department of Education. National Center for Education Statistics. Indicators of School Crime and Safety: 2010.

² Dinkes, R., Kemp, J., Baum, K. and Snyder, T.D. (2009). Indicators of School Crime and Safety: 2010 (NCES 2011-012/NCJ 230812) National Center for Education Statistics, Institute for Education Sciences, U.S. Department of Education, and Bureau of Justice Statistics, Office of Justice Programs, U.S. Department of Justice. Washington, DC: US Government Printing Office.

³ U.S. Department of Education. National Center for Education Statistics. Indicators of School Crime and Safety: 2010.

Disruptive aggressive behaviors such as bullying and violence create a hostile school environment that can interfere with the academic performance and mental health of students who are victims of or witnesses to such aggressive behaviors. Students who are exposed to high levels of aggressive behavior and violence at school are more likely to disengage from school ⁴ and to experience clinical levels of mental and emotional disorders than are students who experience either no or low levels of violence at school.⁵ Students who are bullied are also more likely to become truant from school ⁶ and have lower academic performance.⁷ Research also indicates that the majority of school shooters had been previously bullied.⁸ Disruptive and aggressive behaviors in the classroom, and the resulting suspensions and expulsions, also diminish teachers' instructional time and students' learning time. Of the 271,800 serious disciplinary actions that were taken during the 2007-2008 school year for physical attacks or fights, 79 percent were out-of-school suspensions lasting five days or more.⁹

⁴ Bowen, N.K. & Bowen, G.L. (1999). Effects of crime and violence in neighborhoods and schools on the school behaviors and performance of adolescents. Journal of Adolescent Research, 14, 319-342.

⁵ Flannery, D.J., Wester, K.L. & Singer, M.I. (2004). Impact of exposures to violence in school on child and adolescent mental health and behavior. Journal of Community Psychology. 32, 559-573.

⁶ Smith, P.K. & Sharp, S. (1994). The problem of school bullying. In P.K. Smith & S. Sharp (Eds.) School Bullying: Insights and Perspectives. New York, NY: Routledge, pp. 1-19.

⁷ Glew, G., Fan, F., Katon, W., Rivara, F., Kernic, M. (2005). Bullying, psychosocial adjustment, and academic performance in elementary school. Arch Pediatr Adolesc Med, 159, 1026-1031.

⁸ Leary, M.R., Kowalski, R.M., Smith, L., & Phillips, S. (2003). Teasing, rejection, and violence: Case studies of the school shootings. Aggressive Behavior, 29, 202-214.

⁹ U.S. Department of Education. National Center for Education Statistics. 2007-2008 Survey on Crime and Safety (SSOCS), 2008.

Preparing students for success requires learning environments that help all students to be engaged in their classrooms, schools, and communities. Students learn best when they are in a school environment with, among other things, positive relationships between adults and students; the absence of violence, bullying, harassment, and substance abuse; and readily available physical and mental health supports and services. Research has shown that students who report high levels of school connectedness also report lower levels of emotional distress, violence, suicide attempts, and drug use.¹⁰

¹⁰ Blum, R.W & Libbey, H.P. (2004). School Connectedness—Strengthening Health and Education Outcomes for Teenagers. Journal of School Health. 74, 231-232.

Safe and supportive school environments also provide greater opportunities for family and community engagement in students' learning and strengthening the role of schools as centers of communities.

To ensure that schools are safe places for students to learn and to formulate intervention and prevention strategies, schools should understand the issues they face and the conditions that may influence student risk behaviors. As such, comprehensive needs assessments of conditions for learning—including assessments of school engagement, school safety, and the school environment—can provide educators with the data needed to design and target interventions to improve conditions in schools.

Safe and Supportive Schools grants were first implemented in FY 2010, using priorities similar to the priorities proposed in this notice. Our experience with grantees from this cohort is that developing a comprehensive approach to improving conditions for learning is critical to helping all students be safe, healthy, and supported in their classrooms, schools, and communities. We propose the following priorities to increase the capacity of States, local educational agencies (LEAs), and schools to create safe, healthy, and supportive learning environments.

Proposed Priority 1—Grants to States To Improve Conditions for Learning

Under this proposed priority the Department supports grants to SEAs for projects that take a systematic approach to improving conditions for learning in eligible schools (as defined in this notice) through (a) an improved measurement system that assesses conditions for learning, which must include school safety, and (b) the implementation of programmatic interventions that address problems identified by data.

Proposed Priority 2—Inclusion of School Engagement and School Environment in Needs Assessments Measuring Conditions for Learning

To meet this proposed priority, the applicant must propose to implement a measurement system that uses valid and reliable instruments to gather comprehensive data on school engagement and the school environment from students in order to assess conditions for learning.

Proposed Priority 3—Family and Staff Inclusion in Needs Assessments Measuring School Engagement

To meet this proposed priority, the applicant must propose to implement a measurement system that uses valid and reliable instruments to gather comprehensive data from school staff and from students' families or guardians that can be used to assess school engagement.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Requirements

Background: The purpose of the Safe and Supportive Schools program is to support SEAs in the statewide measurement of, and targeted programmatic interventions to improve, conditions for learning in order to help schools improve student safety and health. Schools need complete and accurate data to determine where resources are most needed and to design effective programs. For example, while incident data can be used to determine the frequency of safety incidents, they cannot fully measure perceptions or attitudes, and those data are usually limited to those incidents that come to the attention of school personnel. In addition, these data rarely include students, staff, and parent perceptions of school safety, student engagement, and the learning environment.

We believe that supplementing incident data with survey or other data is critical to informing and guiding efforts to improve conditions for learning. Many States and LEAs already use a variety of surveys to track State-level or LEA-level trends; however, improvements are needed to ensure that the survey measures are valid and reliable and that the surveys provide schools with sufficient data to inform decision making.

In order to improve conditions for learning, we believe that sufficient high-quality data are required to identify need, allocate resources, and implement and expand effective programs that meet the needs of students.

Proposed Requirements:

The Assistant Deputy Secretary for Safe and Drug-Free Schools proposes the following program, application, administrative, and eligibility requirements for this program. We may apply one or more of these requirements in any year in which this program is in effect.

Program Requirements:

1. Measurement System.

(a) Each grantee must implement a measurement system that—

(1) Collects survey data and incident data (as defined in this notice) from participating LEAs that have a combined student enrollment of no less than 20 percent of the State's total student enrollment;

(2) Collects student survey data from eligible schools (as defined in this notice) to assess conditions for learning, which include, at a minimum, data on school safety;

(3) Uses survey sampling procedures that collect data from a representative sample of the students in grades 9 and above within the eligible schools surveyed;

(4) Uses valid and reliable survey instruments (as defined in this notice);

(5) Collects the required survey data from all eligible schools in participating LEAs within the first 12 months of the project period and again during the final 12 months of the project period;

(6) Collects the required survey data from each eligible school selected to implement programmatic interventions (as defined in this notice) in each year of the project period;

(7) Collects incident data (as defined in this notice) from all eligible schools in participating LEAs in each year of the project period; and

(8) Provides data that can be summarized in ways that will engage school staff and families or guardians in discussions of the results.

2. School Safety Scores.

(a) Each grantee must generate a school safety score (as defined in this notice) for each eligible school in its participating LEAs, using student survey data and incident data (as defined in this notice) both of which are disaggregated by school, within the first 12 months of the project period and again during the final 12 months of the project period;

(b) Additionally, each grantee must generate a school safety score for each eligible school selected to implement programmatic interventions (as defined in this notice), using student survey data and incident data (as defined in this notice) both of which are disaggregated at the school level, in each year of the project period; and

(c) Each grantee must publicly report school safety scores for each eligible school in its participating LEAs after the initial year and after the final year of the project period, and for each year of the project period, for eligible schools selected to implement programmatic interventions. To satisfy this requirement, each grantee must—

(i) Prior to the start of each school year, post school safety scores, generated from current data, on the Internet in a manner that is easily accessible to the general public; and

(ii) Within the first 12 months of the project period, post the formula used to generate school safety scores on the Internet in a manner that is easily accessible to the general public.

3. Implementing Programmatic Interventions and Technical Assistance Strategies. Each grantee must—

(a) In consultation with its participating LEAs, and using criteria that incorporate student survey data and incident data from the measurement system, the list of persistently lowest-achieving schools (as defined in this notice), or both, select eligible schools in need of programmatic interventions (as defined in this notice);

(b) In consultation with its participating LEAs, implement programmatic interventions (as defined in this notice) in a number of eligible schools, located in participating LEAs, totaling no more than 20 percent of the total number of eligible schools in the State, to ensure that programmatic interventions are of sufficient size and scope;

(c) Provide its participating LEAs and eligible schools with technical assistance in using survey data to drive school improvement, including on using data to assess areas in need of improvement, and on identifying programmatic interventions to address these areas; and

(d) Use at least 80 percent of the grant funds awarded in project years two, three, and four to carry out programmatic interventions (as defined in this notice) and related technical assistance.

Note: For the purposes of these proposed program requirements, grantees may implement programmatic interventions that serve any student within an eligible school, including students in grades 8 and below. Grantees are not required to survey students in grades 8 and below.

Application Requirements:

In its application, an applicant must—

(a) Identify the LEAs that will participate in the proposed project. If the LEAs that will participate have not been identified by the time the application is submitted, the applicant must provide a description of the process it will use to select LEAs to participate;

(b) Describe the process it will use to consult with participating LEAs in developing a formula to be used in generating school safety scores required under the program;

(c) Describe its plan to maintain, improve, or build State-level capacity to conduct the following activities:

(1) Developing, adapting, or adopting valid and reliable survey instruments.

(2) Administering surveys using established sampling and administration methodologies that ensure adequate school-level representation and high response rates.

(3) Tracking costs by major component (e.g., student survey data collection).

(4) Safeguarding the privacy and confidentiality of the survey respondents and complying with the requirements of the Protection of Pupil Rights Amendment, 20 U.S.C. 1232h; 34 CFR part 98 in collecting survey data and with the requirements of the Family Educational Rights and Privacy Act, 20 U.S.C. 1232g; and 34 CFR part 99 in collecting any survey or incident data containing personally identifiable information;

(d) Provide a brief description of the specific constructs to be included on any survey instruments;

(e) Explain the strategies it will use to identify and address any anticipated challenges (including statutory or regulatory requirements) involved in collecting the required data in the participating LEAs. At a minimum, each applicant must identify and address anticipated barriers to obtaining high response rates for surveys;

(f) Describe how it will use the summaries of the data collected from the measurement system and the school safety scores to engage families and guardians in a discussion of the findings; to examine how a school's setting, policies, and practices promote or inhibit student safety from physical violence; and to examine how a school's setting, policies, and practices might reduce disruptive behaviors and suspensions and expulsions;

(g) Describe how it will provide technical assistance to participating LEAs and their schools on the use, meaning, and application of required survey data and incident data (as defined in this notice);

(h) Describe the strategies it will use to consult with participating LEAs in order to identify and implement programmatic interventions (as defined in this notice) in identified schools that respond to needs identified through the analysis of data collected through the measurement system; and

(i) Comply with the requirements of any evaluation of the program conducted by the Department, including by sharing all data collected through the measurement system with the Department or an evaluator selected by the Department.

Administrative Requirement:

Although programmatic interventions will be delivered at the LEA level, the SEA must retain administrative direction and fiscal control for the project.

Eligibility Requirements:

Eligible applicants under this program are SEAs, as defined by section 9101(41) of the ESEA.

Proposed Definitions:

The Assistant Deputy Secretary for Safe and Drug-Free Schools proposes the following definitions for this program. We may apply one or more of these definitions in any year in which this program is in effect.

Conditions for learning means the school setting, which includes, at a minimum, school safety, and which may include school environment and school engagement.

Eligible school means any school that includes 9th grade, 10th grade, 11th grade, or 12th grade.

Incident data means data from incident reports by school officials including, but not limited to, truancy rates; the frequency, seriousness, and incidence of violence and drug-related offenses resulting in suspensions and expulsions; and the incidence and prevalence of drug use and violence by students in schools.

Moderate evidence means evidence from previous studies whose designs can support causal conclusions (i.e., studies with high internal validity) but have limited generalizability (i.e., moderate external validity), or studies with high external validity but moderate internal validity.

Persistently lowest-achieving schools means, as determined by the State, (a)(1) any Title I school in improvement, corrective action, or restructuring that (i) is among the lowest-achieving five percent of Title I schools in improvement, corrective action, or restructuring or the lowest-achieving five Title I schools in improvement, corrective action, or restructuring in the State, whichever number of schools is greater; or (ii) is a high school that has had a graduation rate as defined in 34 CFR 200.19(b) that is less than 60 percent over a number of years; and (2) any secondary school that is eligible for, but does not receive, Title I funds that (i) is among the lowest-achieving five percent of secondary schools or the lowest-achieving five secondary schools in the State that are eligible for, but do not receive, Title I funds, whichever number of schools is greater; or (ii) is a high school that has had a graduation rate as defined in 34 CFR 200.19(b) that is less than 60 percent over a number of years.

To identify the persistently lowest-achieving schools, a State must take into account both: (i) The academic achievement of the “all students” group in a school in terms of proficiency on the State's assessments under section 1111(b)(3) of the ESEA in reading/language arts and mathematics combined; and (ii) the school's lack of progress on those assessments over a number of years for the “all students” group.

Programmatic intervention means any program, strategy, activity, service, or policy for school or community settings that prevents and reduces youth crime, violence, harassment, bullying, and the illegal use of drugs, alcohol, and tobacco; creates positive relationships between students and adults; promotes parent and community engagement; promotes the character, social, and emotional development of students; provides or improves access to social services; enables school communities to manage student behaviors effectively while lowering suspensions and expulsions; promotes readiness and emergency management for schools; or provides other needed social and emotional supports for students. Programmatic interventions should be based on the best available evidence, including, where available, strong evidence (as defined in this notice) or moderate evidence (as defined in this notice).

School engagement means participation in school-related activities, and the quality of school relationships, which may include relationships between and among administrators, teachers, parents, and students.

School environment means the school setting relating to the physical plant, the fairness and adequacy of disciplinary procedures, the academic environment, and student health, including the available physical and mental health supports and services, as supported by relevant research and an assessment of validity.

School safety means the safety of school settings, such as the incidence of harassment, bullying, violence, and substance use, as supported by relevant research and an assessment of validity.

School safety score means a number calculated with a formula, developed by the State in consultation with LEAs and applied uniformly to all eligible schools in participating LEAs within the State, that uses survey data and incident data (as defined in this notice) collected by a measurement system and that can be used to make school comparisons.

Strong evidence means evidence from previous studies whose designs can support causal conclusions (i.e., studies with high internal validity), and studies that in total include enough of the range of participants and settings to support scaling up to the State, regional, or national level (i.e., studies with high external validity).

Valid and reliable survey instruments mean intact sets of survey questions that have been demonstrated statistically to produce results that are both consistently and accurately measuring appropriate concepts of interest for the age groups surveyed.

Final Priorities, Requirements, and Definitions:

We will announce the final priorities, requirements, and definitions in a notice in the Federal Register. We will determine the final priorities, requirements, and definitions after considering responses to this notice and other information available to the Department. This notice does not preclude us from proposing additional priorities, requirements, and definitions subject to meeting applicable rulemaking requirements.

Note: This notice does not solicit applications. In any year in which we choose to use one or more of these proposed priorities, requirements, and definitions, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priorities, requirements, and definitions justify the costs.

We have determined, also, that this proposed regulatory action does not unduly interfere with State, local, and tribal governments in the exercise of their governmental functions.

Discussion of Costs and Benefits:

The potential costs associated with the proposed priorities and requirements are minimal while the potential benefits are significant.

Grantees may anticipate costs related to developing and implementing a measurement system, including data collection, analysis, and reporting. Grantees may also anticipate costs in implementing programs in schools, and providing training and technical assistance to staff in participating LEAs. Finally, grantees will experience costs when traveling to mandatory training events sponsored by the Department. However, all of these costs may be included in the grant budget and, therefore, will have little or no financial impact on the applicant.

The benefit of the proposed priorities, definitions, and requirements is that grantees will develop a measurement system that uses incident and survey data to support statewide measurement of conditions for learning. The grantee can use this information to identify and support the most at-risk schools and communities, thereby improving school safety and increasing the likelihood of academic success for students in these schools. Grantees will be able to tailor their approach based on the specific needs of each school, using data from the measurement system to drive resource and programming decisions. Training and technical assistance will be provided for staff, and will increase the grantee's overall performance and sustainability efforts. In summary, a comprehensive effort to improve conditions for learning will help to promote student safety, health, and well-being, and increase our capacity to create safe, healthy, and drug-free learning environments.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 5, 2011.
Kevin Jennings,
Assistant Deputy Secretary for Safe and Drug-Free Schools.

[FR Doc. 2011-8461 Filed 4-8-11; 8:45 am]

BILLING CODE 4000-01-P